DEPARTMENT OF THE INTERIOR

National Park Service

[NPS-WASO-NAGPRA-15281; PPWOCRADN0-PCU00RP14.R50000]

Notice of Inventory Completion: Texas A&M University, College Station, TX

AGENCY: National Park Service, Interior.

ACTION: Notice.

SUMMARY: Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains under the control of Texas A&M University, College Station, TX. The human remains were removed from sites in New Mexico.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas A&M University (TAMU) professional staff in 1995, and the remains were determined to be ancestral to the Hopi Tribe of Arizona; Pueblo of Acoma, New Mexico; Pueblo of Isleta, New Mexico; Pueblo of Laguna, New Mexico; Pueblo of Pojoaque, New Mexico; Pueblo of San Ildenfonso, New Mexico; Pueblo of Taos, New Mexico; and the Zuni Tribe of the Zuni Reservation, New Mexico. In 2010, representatives of these tribes were invited to consult with TAMU for the purpose of determining the place and manner of repatriation. The Hopi Tribe of Arizona contacted TAMU with an interest in having these remains repatriated. No representatives from the other tribes contacted TAMU in response to this invitation.

History and Description of the Remains

In 1979, human remains representing, at minimum, three individuals were removed from the Old Town site (LA1113) in Luna County, NM, by Dr. Harry Shafer of TAMU. The human remains were determined to be two individuals of indeterminate age and sex (TAMU NAGPRA 68) and one adult of indeterminate sex (TAMU-NAGPRA 75). No known individuals were identified. No associated funerary objects are present. The diagnostic artifacts from this site indicate that these human remains were probably of the Mimbres culture.

At an unknown date, human remains representing, at minimum, one individual were removed from an unknown location in New Mexico by a private individual and donated to Dr. Harry Shafer of TAMU. Dr. Shafer's work in New Mexico focused mostly in Grant County and concerned the Mimbres culture. He has stated that private individuals donated skeletal remains to him over the years associated with this work. Therefore, it is reasonable to assume that these human remains are from the Mogollon culture and probably removed from Grant County, NM. Analysis by physical anthropologists indicates that the human remains are of Native American origin and were determined to be one adult of indeterminate sex (TAMU NAGPRA 67). No known individuals were identified. No associated funerary objects are present.

In 1989, human remains representing, at minimum, one individual were removed from the Oliver site in Grant County, NM, by Dr. Harry Shafer of TAMU as part of a salvage excavation. Curation notes associated with these human remains indicate that they date to the Late Pithouse Period or San Francisco Phase, but no explanation is provided. The human remains were determined to be one adult male (TAMU NAGPRA 69). No known individuals were identified. No associated funerary objects are present.

Based on geographic location of all the sites in this notice and oral traditions concerning migration histories, TAMU staff found it reasonable to trace a relationship of shared group identity between the human remains in this notice and the Hopi Tribe of Arizona; Pueblo of Acoma, New Mexico; Pueblo of Isleta, New Mexico; Pueblo of Laguna, New Mexico; Pueblo of Pojoaque, New Mexico; Pueblo of San Ildenfonso, New Mexico; Pueblo of Taos, New Mexico; and the Zuni Tribe of the Zuni Reservation, New Mexico

Determinations Made by Texas A&M University

Officials of Texas A&M University have determined that:

• Pursuant to 25 U.S.C. 3001(9), the human remains described in this notice represent the physical remains of five individuals of Native American ancestry.

• Pursuant to 25 U.S.C. 3001(2), there is a relationship of shared group identity that can be reasonably traced between the Native American human remains and the Hopi Tribe of Arizona; Pueblo of Acoma, New Mexico; Pueblo of Isleta, New Mexico; Pueblo of Laguna, New Mexico; Pueblo of Pojoaque, New Mexico; Pueblo of San Ildenfonso, New Mexico; Pueblo of Taos, New Mexico; and the Zuni Tribe of the Zuni Reservation, New Mexico.

Additional Requestors and Disposition

Lineal descendants or representatives of any Indian tribe or Native Hawaiian organization not identified in this notice that wish to request transfer of control of these human remains should submit a written request with information in support of the request to Dr. Suzanne L. Eckert, Department of Anthropology, Texas A&M University, College Station, TX 77843-4352, telephone (979) 845-5242, by May 19, 2014. After that date, if no additional requestors have come forward, transfer of control of the human remains to the Hopi Tribe of Arizona; Pueblo of Acoma, New Mexico; Pueblo of Isleta, New Mexico; Pueblo of Laguna, New Mexico; Pueblo of Pojoaque, New Mexico; Pueblo of San Ildenfonso, New Mexico; Pueblo of Taos, New Mexico; and the Zuni Tribe of the Zuni Reservation, New Mexico, may proceed.

Texas A&M University is responsible for notifying the Hopi Tribe of Arizona; Pueblo of Acoma, New Mexico; Pueblo of Isleta, New Mexico; Pueblo of Laguna, New Mexico; Pueblo of Pojoaque, New Mexico; Pueblo of San Ildenfonso, New Mexico; Pueblo of Taos, New Mexico; and the Zuni Tribe of the Zuni Reservation, New Mexico, that this notice has been published.

Dated: March 13, 2014.
Melanie O'Brien,
Acting Manager, National NAGPRA Program.

[FR Doc. 2014-08780 Filed 4-16-14; 8:45 am]

BILLING CODE 4312-50-P